DEPARTMENT OF COMMERCE

National Oceanic and Atmospheric Administration

50 CFR Part 300

[Docket No. 250402-0060; RTID 0648-BN54]

Pacific Halibut Fisheries of the West Coast; Management Measures for the Area 2A Pacific Halibut Directed Commercial Fishery

AGENCY: National Marine Fisheries Service (NMFS), National Oceanic and Atmospheric Administration (NOAA), Commerce.

ACTION: Proposed rule; request for comments.

SUMMARY: NMFS is proposing annual management measures for the 2025 non-Tribal directed commercial Pacific halibut fishery that operates south of Point Chehalis, WA, (lat. 46°53.30′ N) in the International Pacific Halibut Commission's (IPHC) regulatory Area 2A off Washington, Oregon, and California. Annual management measures include fishing periods and fishing period limits. NMFS is also proposing to modify permit deadlines for all Area 2A non-Tribal commercial fisheries and modify inseason action announcement procedures for the Area 2A non-Tribal directed commercial fishery. These actions are intended to conserve Pacific halibut and provide fishing opportunity where available.

DATES: Comments must be received by May 8, 2025.

ADDRESSES: A plain language summary of this proposed rule is available at https://www.regulations.gov/docket/NOAA-NMFS-2025-0014. You may submit comments on this document, identified by NOAA-NMFS-2025-0014, by any of the following methods:

• Electronic Submission: Submit all electronic public comments via the Federal e-Rulemaking Portal. Go to https://www.regulations.gov and type NOAA-NMFS-2025-0014 in the Search box. Click on the “Comment” icon, complete the required fields, and enter or attach your comments.

Instructions: Comments sent by any other method or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Docket: This proposed rule is accessible at the Office of the Federal Register website at https://www.federalregister.gov. Background information and documents are available at the NMFS West Coast Region Pacific Halibut Directed Commercial Fishery website at https://www.fisheries.noaa.gov/action/2025-pacific-halibut-directed-commercial-fishery and at the Council's website at https://www.pcouncil.org. Other comments received may be accessed through https://www.regulations.gov.

FOR FURTHER INFORMATION CONTACT: Heather Fitch, West Coast Region, NMFS, (360) 867-8608, heather.fitch@noaa.gov.

SUPPLEMENTARY INFORMATION:

Background

The Northern Pacific Halibut Act of 1982 (16 U.S.C. 773-773k) (Halibut Act) gives the Secretary of Commerce the responsibility of implementing the provisions of the Convention between Canada and the United States for the Preservation of the Halibut Fishery of the North Pacific Ocean and Bering Sea (Convention), signed at Ottawa, Ontario, on March 2, 1953, as amended by a Protocol Amending the Convention (March 29, 1979).

As provided in the Halibut Act at 16 U.S.C. 773b, the Secretary of State, with the concurrence of the Secretary of Commerce, may accept or reject, on behalf of the United States, regulations recommended by the IPHC in accordance with the Convention. Following acceptance by the Secretary of State, the annual management measures promulgated by the IPHC are published in the Federal Register to provide notice of their immediate regulatory effectiveness and to inform persons subject to the regulations of their restrictions and requirements (50 CFR 300.62).

The Halibut Act also provides that Regional Fishery Management Councils may develop, and the Secretary of Commerce may implement, regulations governing Pacific halibut fishing in U.S. waters that are in addition to, and not in conflict with, approved IPHC regulations (16 U.S.C. 773c(c)). The Pacific Fishery Management Council (Council) developed a catch sharing plan guiding the allocation of halibut across the various sectors for the IPHC's regulatory Area 2A.

Fishery Allocation

At its annual meeting held January 27-31, 2024, the IPHC adopted an Area 2A catch limit, called a fishery constant exploitation yield (FCEY), of 1.53 million pounds (694 metric tons (mt)), net weight (i.e., the weight of Pacific halibut that is without gills and entrails, head-off, washed, and without ice and slime) of Pacific halibut. Upon acceptance by the Secretary of State, with concurrence from the Secretary of Commerce, the fishery allocations adopted by the IPHC will be published in the Federal Register, in accordance with 50 CFR 300.62. The FCEY was derived from the total constant exploitation yield (TCEY) of 1.65 million pounds (748 mt), net weight, for Area 2A, which includes commercial discards and bycatch projections calculated using a formula developed by the IPHC. Based on the FCEY for Area 2A and the allocation framework in the Council's catch sharing plan the non-Tribal directed commercial fishing allocation would be 259,515 pounds (118 mt), net weight for the 2025 fishing season.

Fishing Periods

Fishing periods, often referred to as fishery openers, are the time during the annual commercial halibut season when fishing for non-Tribal directed commercial Pacific halibut in Area 2A is allowed. At its November 2024 meeting, the Council discussed the 2025 directed commercial season structure and recommended that NMFS establish fishing periods similar to those in the previous year. Specifically, the Council recommended that the directed commercial fishery operate as a series of 3-day (58-hour) openings, with the first fishing period beginning at 8 a.m. (0800) Pacific Daylight Time (PDT) on the fourth Tuesday in June and ending at 6 p.m. (1800) PDT on Thursday of that week, and the second fishing period occurring 2 weeks later. The Council also recommended that, if there is a third fishing period, it would aim to be 2 weeks later, but no more than 3 weeks after the second fishing, and that any subsequent fishing periods would occur as soon as possible. In addition, the Council requested that all potential season opening dates be specified at the outset of the fishing season. Based on the Council's recommendations, NMFS is proposing the first 2025 directed commercial fishery fishing period to begin on June 24, 2025, at 8 a.m. PDT and closing on June 26, 2025, at 6 p.m. PDT. The second fishing period would occur 2 weeks later, beginning on July 8, 2025, at 8 a.m. PDT and closing on July 10, 2025, at 6 p.m. PDT. If another fishing period is necessary to reach attainment of the allocation, NMFS is proposing that it would open, by inseason action, a third fishing period occurring 2 weeks after the second fishing period, beginning on July 22, 2025 at 8 a.m. PDT and closing on July 24, 2025 at 6 p.m. PDT. If subsequent fishing periods would be necessary to reach the allocation, they would follow the same pattern, occurring 2 weeks after the previous fishing period, beginning on August 5, August 12, et cetera, as announced by inseason action. If for any reason a fishing period is not opened as scheduled, NMFS would skip a fishing period in order to follow the prescribed schedule.

After each fishing period, NMFS will assess the fishery harvest to date and determine if the fishery has attained the allocation. If harvest estimates indicate the allocation has not been reached, NMFS may determine that subsequent fishing period(s) are necessary to attain the allocation. The third and subsequent fishing periods would be added through inseason action.

Fishing periods may be adjusted inseason consistent with 50 CFR 300.63.

Fishing Period Limits

A fishing period limit, also called a vessel catch limit, is the maximum amount of Pacific halibut that may be retained and landed by a vessel during one fishing period. Each vessel may retain no more than the current fishing period limit of Pacific halibut for its vessel class, which is determined by vessel length. NMFS is proposing directed commercial fishing period limits, shown in table 1 below, for the first two fishing periods, based on the 2025 directed fishery allocation, the number of permits issued by vessel size class, and participation and catch rates from prior years, in accordance with 50 CFR 300.63(e)(1)(ii).

For the 2025 fishing season, NMFS received 171 applications across 8 vessel size classes (A-H). Based on this number of permits and past fishery participation, NMFS anticipates similar vessel participation as has occurred in previous years. Therefore, NMFS is proposing that fishing period limits be grouped the same way as was done in previous years.

The directed commercial fishery allocation for 2025 is similar to the allocations adopted for the previous 4 years. The average catch per vessel in 2024 was similar to those in 2021 and 2022, but lower than in 2023. Therefore, given the similar allocations and given that expected participation levels are similar to those in recent years, NMFS is proposing fishing period limits similar to the fishing period limits for 2021 and 2022. These fishing period catch limits are intended to ensure that the Area 2A directed commercial fishery does not exceed its allocation, while also providing fair and equitable access across participants to an attainable amount of harvest.

If NMFS determines that more than two fishing periods are warranted, NMFS will set the fishing period limits for subsequent fishing periods equal across all vessel classes through inseason action. Fishing period limits for the second fishing period may also be adjusted through inseason action, if necessary to avoid exceeding the allocation.

Fishing period limits may be adjusted inseason consistent with 50 CFR 300.63.

Table 1—Fishing Period Limits by Size Class for the 2025 First and Second Fishing Periods of the Area 2A Pacific Halibut Non-Tribal Directed Commercial Fishery
Vessel class | Length range in feet (meters) | Fishing period limit in pounds (mt)
A | 1-25 (0.3-7.8) | 2,000 (0.907)
B | 26-30 (7.9-9.3) | 2,000 (0.907)
C | 31-35 (9.4-10.9) | 2,000 (0.907)
D | 36-40 (11.0-12.4) | 3,400 (1.542)
E | 41-45 (12.5-13.9) | 3,400 (1.542)
F | 46-50 (14.0-15.4) | 4,300 (1.950)
G | 51-55 (15.5-16.9) | 4,300 (1.950)
H | 56+ (17.0+) | 5,000 (2.268)
Notes: Fishing period limits are in dressed weight (head-on, with ice and slime). If a vessel's size is between lengths, its length will be rounded up for the purpose of fishing period limits.

Inseason Action Announcement Procedures

Currently, if it is determined necessary to establish additional fishing periods beyond those established through proposed and final rulemaking at the start of the year, then those fishing periods must be announced through inseason actions published in the Federal Register (50 CFR 300.63(e)(1)(iii) and 50 CFR 300.63(e)(2)(i)). NMFS is proposing modifications to these inseason notice procedures by adding direct email correspondence to the affected public as a form of notice. Inseason actions will still be published in the Federal Register and will also appear on the NMFS website. Inseason actions will be effective upon the date and time of either the receipt of notice by the direct email or publication in the Federal Register, whichever occurs first. This proposed modification is intended to allow for quicker inseason action, in order to be able to announce fishing periods with sufficient advanced notice for operation planning purposes, while maintaining a regular schedule of biweekly fishing periods to the extent practicable.

Permit Deadlines

Permits are required for all vessels participating in the Area 2A non-Tribal commercial directed and incidental Pacific halibut fisheries. Vessels may not be permitted for both the Pacific halibut fishery incidental to salmon troll and the directed commercial Pacific halibut fishery. NMFS is proposing to move the permit deadline for all Area 2A non-Tribal commercial fisheries from its current date of February 15 to March 15. The current permit deadline occurs before the Council's annual March meeting and, thus, before the annual salmon troll seasons have been discussed. This leaves fishermen forced to choose between participating in the Pacific halibut incidental to salmon troll fishery or the directed commercial fishery before those fishermen have an indication of what the U.S. West Coast salmon season might look like.

Classification

Regulations governing the U.S. fisheries for Pacific halibut are developed by the IPHC, the Pacific Fishery Management Council (Council), the North Pacific Fishery Management Council, and the Secretary of Commerce. Section 5 Halibut Act (16 U.S.C. 773c) allows the Regional Council having authority for a particular geographical area to develop regulations governing the allocation and catch of halibut in U.S. Convention waters as long as those regulations do not conflict with IPHC regulations. This action is consistent with the Council's authority to regulate the halibut fishery in the waters in and off Washington, Oregon, and California.

This proposed rule has been determined to be not significant for purposes of Executive Order 12866 and not a regulatory action under Executive Order 14192.

The Chief Counsel for Regulation of the Department of Commerce certified to the Chief Counsel for Advocacy of the Small Business Administration that this proposed rule, if adopted, would not have a significant economic impact on a substantial number of small entities, for the following reasons:

For Regulatory Flexibility Act (RFA) purposes only, NMFS has established a small business size standard for businesses, including their affiliates, whose primary industry is commercial fishing (see 50 CFR 200.2). A business primarily engaged in commercial fishing (North American Industry Classification System code 114111) is classified as a small business if it is independently owned and operated, is not dominant in its field of operation (including its affiliates), and has combined annual receipts not in excess of $11 million for all its affiliated operations worldwide. The entities that would be affected by the proposed action are those vessels that harvest Pacific halibut as part of the non-Tribal directed commercial fisheries and are all considered small businesses under the above size standards.

This proposed rule, if adopted, would implement management measures for the Pacific halibut non-Tribal commercial fisheries in Area 2A. The proposed management measures include: modified inseason announcement procedures, as well as 2025 season dates and catch limits for the directed commercial fishery. This proposed action would also make a non-substantive change to the permit deadline for directed and incidental commercial fisheries.

There are no large entities involved in Pacific halibut fisheries off the West Coast. In 2024, NMFS issued 188 permits to the commercial fishing fleet for the Area 2A non-Tribal directed commercial fishery. Of those 188 vessels that obtained licenses, 46 percent (86 vessels) participated in the fishery. NMFS expects that a similar proportion of vessels will participate in the fishery this year and may be affected by these regulations. Cost data for the harvesting operations of non-Tribal commercial halibut vessels is limited or unavailable. For 2024, the non-Tribal directed commercial fishery allocation was 249,338 pounds (113 mt), of which approximately 237,164 pounds (108 mt) of Pacific halibut were harvested and resulted in a total fishery ex-vessel value of approximately $1.56 million. Therefore, because the entire projected fishery value falls below the limit of one vessel being considered a small business, NMFS considers all vessels affected by this action to be small entities.

The major effect of Pacific halibut management on small entities is from the Area 2A allocation decided by the IPHC; a decision independent from this proposed action. This action proposes changes to the Area 2A Pacific halibut non-Tribal commercial directed and incidental fisheries consistent with recommendations from the Council to provide commercial harvest opportunities under the allocations that result from the Area 2A catch limit determined by the IPHC. Profitability is largely based on the total Area 2A allocation decided by the IPHC, with subarea allocations determined based on the allocation formulae in the Council's catch sharing plan. Therefore, the proposed rule, if adopted, is unlikely to affect the profitability of the commercial fishery.

The Area 2A non-Tribal directed commercial fishery allocation for 2025 is 259,515 pounds (118 mt), net weight, which is 4 percent higher than in 2024. This proposed rule, if adopted, is unlikely to affect overall participation in the directed commercial fishery, as the allocation is similar to allocations in previous years. Profitability is dependent on the total amount of allocation available and market forces independent of this action. It is therefore highly unlikely that this proposed action would limit the fleet's potential profitability from catching halibut compared to last season or recent catch levels, as fishing periods and fishing period catch limits for 2025 are set using similar considerations as in previous years. Accordingly, vessel income from fishing is not expected to be altered as a result of this proposed rule, if adopted, as it compares to recent catches in the fishery, including under the previous season's regulations.

Based on the analysis above, the proposed action, if adopted, will not have adverse economic impact on these small business entities. As a result, an Initial Regulatory Flexibility Analysis is not required, and none has been prepared.

This proposed rule contains no new information collection requirements under the Paperwork Reduction Act of 1995.

List of Subjects in 50 CFR Part 300

Administrative practice and procedure, Antarctica, Canada, Exports, Fish, Fisheries, Fishing, Imports, Indians, Labeling, Marine resources, Reporting and recordkeeping requirements, Russian Federation, Transportation, Treaties, Wildlife.

Dated: April 2, 2025.
Samuel D. Rauch, III,
Deputy Assistant Administrator for Regulatory Programs, National Marine Fisheries Service.

For the reasons set out in the preamble, NMFS proposes to amend 50 CFR part 300, subpart E, as follows:

PART 300—INTERNATIONAL FISHERIES REGULATIONS

Subpart E—Pacific Halibut Fisheries

1. The authority citation for part 300, subpart E, continues to read as follows:

Authority: 16 U.S.C. 773-773k.

2. In § 300.63, revise paragraphs (d)(2)(ii)(A) and (B), (e)(1)(iii), and (e)(2)(i), to read as follows:

§ 300.63 Catch sharing plan and domestic management measures in Area 2A.

* * * * *

(d) * * *

(2) * * *

(ii) * * *

(A) Applications for permits for the directed commercial fishery in Area 2A must be received by NMFS no later than 2359 PDT on March 15, or by 2359 PDT the next business day in March if March 15 is a Saturday, Sunday, or Federal holiday.

(B) Applications for permits that allow for incidental catch of Pacific halibut during the salmon troll fishery or the sablefish primary fishery in Area 2A must be received by NMFS no later than 2359 PDT March 15, or by 2359 PDT the next business day in March if March 15 is a Saturday, Sunday, or Federal holiday.

* * * * *

(e) * * *

(1) * * *

(iii) Inseason action to add fishing periods and associated fishing period limits. Fishing periods in addition to those originally implemented at the start of the fishing year may be warranted in order to provide the fishery with opportunity to achieve the Area 2A directed commercial fishery allocation, if performance of the fishery during the initial fishing period(s) is different than expected and the directed commercial allocation is not attained through the initial period(s). If NMFS makes the determination that sufficient allocation remains to warrant additional fishing period(s) without exceeding the allocation for the Area 2A directed commercial fishery, the additional fishing period(s) and fishing period limits may be added during the fishing year. If NMFS determines fishing period(s) in addition to those included in an annual management measures rule is warranted, NMFS will send an email with notification of the inseason action to affected permit holders. This action will also be published in the Federal Register as soon as practicable. The inseason action will be effective upon the earlier of either receipt of email of such notification, or publication in the Federal Register. If the amount of directed commercial allocation remaining is determined to be insufficient for an additional fishing period, the allocation is considered to be taken and the fishery will be closed, as described at paragraph (e)(2) of this section.

(2) * * *

(i) If NMFS determines that the non-Tribal directed commercial fishery has attained its annual allocation or is projected to attain its allocation if additional fishing were to be allowed, the Regional Administrator will take automatic action to close the fishery via email to affected permit holders and announcement in the Federal Register. Automatic closure of the non-Tribal directed commercial fishery will be effective upon the earlier of either: receipt of email of such notification, or publication in the Federal Register.

* * * * *

[FR Doc. 2025-05939 Filed 4-7-25; 8:45 am]

BILLING CODE 3510-22-P